DEPARTMENT OF COMMERCE

Foreign-Trade Zones Board

[B-13-2014]

Foreign-Trade Zone 21—Charleston, South Carolina; Authorization of Production Activity; MAHLE Behr Charleston, Inc. (Automotive Engine Components); Charleston, South Carolina

On February 6, 2014, the South Carolina State Ports Authority, grantee of FTZ 21, submitted a notification of proposed production activity to the Foreign-Trade Zones (FTZ) Board on behalf of MAHLE Behr Charleston, Inc., in Charleston, South Carolina.

The notification was processed in accordance with the regulations of the FTZ Board (15 CFR part 400), including notice in the Federal Register inviting public comment (79 FR 10093, 2-24-2014). The FTZ Board has determined that no further review of the activity is warranted at this time. The production activity described in the notification is authorized, subject to the FTZ Act and the FTZ Board's regulations, including Section 400.14.

Dated: June 6, 2014.
Andrew McGilvray,
Executive Secretary.

[FR Doc. 2014-13793 Filed 6-11-14; 8:45 am]

BILLING CODE 3510-DS-P